DEPARTMENT OF TRANSPORTATION

Federal Aviation Administration

Thirtieth RTCA SC-216 Aeronautical Systems Security Plenary

AGENCY: Federal Aviation Administration (FAA), U.S. Department of Transportation (DOT).

ACTION: Thirtieth RTCA SC-216 Aeronautical Systems Security Plenary.

SUMMARY: The FAA is issuing this notice to advise the public of a meeting of Thirtieth RTCA SC-216 Aeronautical Systems Security Plenary.

DATES: The meeting will be held December 12-16, 2016 08:00 a.m.-05:00 p.m.

ADDRESSES: The meeting will be held at: The Washington Campus, 1150 18th Street NW., Suite 400, Washington, DC 20036.

FOR FURTHER INFORMATION CONTACT: Karan Hofmann at khofmann@rtca.org or 202-330-0680, or The RTCA Secretariat, 1150 18th Street NW., Suite 910, Washington, DC, 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of the Thirtieth RTCA SC216 Aeronautical Systems Security. The agenda will include the following:

Monday, December 12, 2016—8:00 a.m.-5:00 p.m.

1. Welcome and Administrative Remarks

2. Introductions

3. Agenda Review

4. Meeting-Minutes Review

5. Jointly with WG-72:

a. Review Joint Action List

b. Review White Papers

c. Status and intent of those planned and produced

d. Gain common understanding of intent

e. Resolve differences

6. Plan next steps in developing WG-72 and SC-216 harmonized draft document

7. Schedule Update

8. Date, Place and Time of Next Meeting

9. New Business

10. Adjourn Plenary

Tuesday, December 13, 2016—8:00 a.m.-5:00 p.m.

1. Continuation of Plenary or Working Group Sessions

Wednesday, December 14, 2016—8:00 a.m.-5:00 p.m.

1. Continuation of Plenary or Working Group Sessions

Thursday, December 15, 2016—8:00 a.m.-5:00 p.m.

1. Continuation of Plenary or Working Group Sessions

Friday, December 16, 2016—8:00 a.m.-11:00 a.m.

1. Continuation of Plenary or Working Group Sessions

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on November 15, 2016.
Mohannad Dawoud
Management & Program Analyst, Partnership Contracts Branch, ANG-A17, NextGen, Procurement Services Division, Federal Aviation Administration.

[FR Doc. 2016-27795 Filed 11-17-16; 8:45 am]

BILLING CODE 4910-13-P